ENVIRONMENTAL PROTECTION AGENCY

40 CFR Part 52

[EPA-R09-OAR-2015-0846; FRL-9955-17-Region 9]

Promulgation of Air Quality Implementation Plans; Arizona; Regional Haze Federal Implementation Plan; Reconsideration

AGENCY: Environmental Protection Agency (EPA).

ACTION: Final rule.

SUMMARY: The Environmental Protection Agency (EPA) is revising portions of the Arizona Regional Haze Federal Implementation Plan (2014 FIP) applicable to the Phoenix Cement Company (PCC) Clarkdale Plant and the CalPortland Cement (CPC) Rillito Plant. This 2014 FIP was adopted earlier under the provisions of the Clean Air Act (CAA). We are finalizing without change our proposal to replace the control technology demonstration requirements for nitrogen oxides (NOX) applicable to Kiln 4 at the Clarkdale Plant and Kiln 4 at the Rillito Plant with a series of revised recordkeeping and reporting requirements. When EPA finalized the 2014 FIP, we had limited operating data for the use of Selective Non-Catalytic Reduction (SNCR) on cement plants. Therefore, we required that PCC and CPC perform control technology demonstration projects to support the control efficiencies for SNCR in the 2014 FIP, as well as to determine if more stringent control efficiencies were achievable. In early 2015, a control technology demonstration project was performed on the SNCR installed at another CalPortland Cement facility, the Mojave Plant. Our analysis of the SNCR control efficiency data from that project indicated that more stringent SNCR control efficiencies were not achievable at PCC and CPC. As a result, the additional information from the control technology demonstration projects required by the 2014 FIP is no longer needed because the PCC and CPC SNCR control efficiencies in the 2014 FIP are consistent with the SNCR performance at the Mojave Plant. In addition, the EPA is making a minor technical correction to change an equation to match the language in the regulatory text.

DATES: This rule will be effective December 21, 2016.

ADDRESSES: The EPA has established a docket for this action under Docket ID No. EPA-R09-OAR-2015-0846. All documents in the docket are listed on the http://www.regulations.gov Web site. Although listed in the index, some information is not publicly available, e.g., confidential business information (CBI) or other information whose disclosure is restricted by statute. Certain other material, such as copyrighted material, is not placed on the Internet and will be publicly available only in hard copy form. Publicly available docket materials are available electronically through http://www.regulations.gov.

FOR FURTHER INFORMATION CONTACT: Colleen McKaughan, U.S. EPA, Region 9, Air Division, Air-1, 75 Hawthorne Street, San Francisco, CA 94105; telephone number: (520) 498-0118; email address: mckaughan.colleen@epa.gov.

SUPPLEMENTARY INFORMATION: Throughout this document, “we,” “us,” and “our” refer to the EPA.

Table of Contents

I. Definitions

II. Background

III. Proposed Action

IV. Public Comments and EPA Responses

V. Final Action

VI. Environmental Justice Considerations

VII. Statutory and Executive Order Reviews

I. Definitions

For the purpose of this document, we are giving meaning to certain words or initials as follows:

• The words or initials Act or CAA mean or refer to the Clean Air Act, unless the context indicates otherwise.

• The initials ADEQ mean or refer to the Arizona Department of Environmental Quality.

• The words Arizona and State mean the State of Arizona.

• The initials BART mean or refer to Best Available Retrofit Technology.

• The term Class I area refers to a mandatory Class I Federal area.

• The initials CBI mean or refer to Confidential Business Information.

• The initials CPC mean or refer to CalPortland Cement.

• The words EPA, we, us or our mean or refer to the United States Environmental Protection Agency.

• The initials FIP mean or refer to Federal Implementation Plan.

• The initials NOX mean or refer to nitrogen oxides.

• The initials PCC mean or refer to Phoenix Cement Company.

• The initials SCR mean or refer to selective catalytic reduction.

• The initials SIP mean or refer to State Implementation Plan.

• The initials SNCR mean or refer to selective non-catalytic reduction.

• The initials SRPMIC mean or refer to Salt River Pima-Maricopa Indian Community.

II. Background

A. Summary of Statutory and Regulatory Requirements

This section provides a brief overview of the requirements of the CAA and the EPA's Regional Haze Rule, as they apply to this particular action. Please refer to our previous rulemakings on the Arizona Regional Haze State Implementation Plan (SIP) for additional background regarding the visibility protection provisions of the CAA and the Regional Haze Rule.¹

¹ 77 FR 42834, 42837-42839 (July 20, 2012), (Arizona Regional Haze “Phase 1” Rule); 77 FR 75704, 75709-75712 (December 21, 2012), (Arizona Regional Haze “Phase 2” Rule).

Congress created a program for protecting visibility in the nation's national parks and wilderness areas in section 169A of the 1977 Amendments to the CAA. This section of the CAA establishes as a national goal the “prevention of any future, and the remedying of any existing, impairment of visibility in mandatory Class I Federal areas which impairment results from man-made air pollution.” ² Specifically, section 169A(b)(2)(A) of the CAA requires states to revise their SIPs to contain such measures as may be necessary to make reasonable progress towards the natural visibility goal. In the 1990 CAA Amendments, Congress amended the visibility provisions in the CAA to focus attention on the problem of regional haze, which is visibility impairment produced by a multitude of sources and activities located across a broad geographic area.³ The Regional Haze Rule was promulgated in 1999 and is in the process of being revised.⁴ It requires states to develop and implement SIPs to ensure reasonable progress toward improving visibility in mandatory Class I Federal areas ⁵ (“Class I area”) by reducing emissions that cause or contribute to regional haze.⁶

² 42 U.S.C. 7491(a)(1).

³ See CAA section 169B, 42 U.S.C. 7492.

⁴ 81 FR 26942, May 4, 2016.

⁵ Areas designated as mandatory Class I Federal areas consist of national parks exceeding 6000 acres, wilderness areas, and national memorial parks exceeding 5000 acres, and all international parks that were in existence on August 7, 1977. 42 U.S.C. 7472(a).

⁶ See generally 40 CFR 51.308.

B. History of FIP Requirements for the State of Arizona

The Arizona Department of Environmental Quality (ADEQ) submitted a Regional Haze SIP to the EPA on February 28, 2011. The EPA acted on ADEQ's Regional Haze SIP in three separate rulemakings. Specifically, the first final rule approved in part and disapproved in part the State's Best Available Retrofit Technology (BART) determinations for three power plants (Apache Generating Station, Cholla Power Plant, and Coronado Generating Station), and promulgated a FIP for NOX BART as well as the compliance requirements for all three power plants.⁷ The second final rule, which addressed the remaining elements of the Arizona Regional Haze SIP, included our disapproval of the State's analysis of reasonable progress measures for point sources of NOX.⁸ In the third final rule, the EPA promulgated a FIP in 2014 (2014 FIP) addressing the requirements of the Regional Haze Rule and interstate visibility transport for the remainder of the disapproved portions of Arizona's Regional Haze SIP.⁹

⁷ 77 FR 72512 (December 5, 2012).

⁸ 78 FR 46142 (July 30, 2013).

⁹ 79 FR 52420 (September 3, 2014) (The 2014 FIP final rule).

Among other things, the 2014 FIP includes requirements for NOX emission controls applicable to PCC Clarkdale Plant Kiln 4 and CPC Rillito Plant Kiln 4 under the reasonable progress requirements of the Regional Haze Rule. In particular, the EPA established two alternative emission limits for NOX on Kiln 4 of the Clarkdale Plant: An emission limit of 2.12 pounds per ton (lb/ton) of clinker produced or an emission limit of 810 tons/year. The 2.12 lb/ton limit is achievable through installation of selective non-catalytic reduction (SNCR), based on a 50 percent control efficiency, while the 810 ton/year limit could be met either by installing SNCR or by maintaining recent production levels.10 11 12 13 We set an emission limit for NOX at the Rillito Plant of 3.46 lb/ton of clinker produced, based on a 35 percent control efficiency.¹⁴ The 2014 FIP also includes monitoring, recordkeeping, and reporting requirements and a compliance deadline for the final NOX emission limits of December 31, 2018. Finally, in response to comments asserting that SNCR control efficiencies of 50 percent for Kiln 4 at the Clarkdale Plant and 35 percent for Kiln 4 at the Rillito Plant were unsupported and that SNCR was capable of achieving higher control efficiencies, we included in the final 2014 FIP requirements for a control technology demonstration project for the SNCR system at each plant, which entailed the collection of data and preparation of a SNCR optimization protocol that would be used to determine if a higher control efficiency would be achievable.

¹⁰ Memorandum dated November 19, 2012, from John Summerhays (EPA), Subject: “Review of Cost Effectiveness of Selective Noncatalytic Reduction (SNCR) at St. Mary's Cement's (SMC) Facility in Charlevoix (SMC-Charlevoix).”

¹¹ De-NOX Technologies, LLC, “Report of NOX Removal Measurements from an SNCR System at the St. Mary's Cement Dixon IL Facility,” October 2005.

¹² 77 FR 181 (September 18, 2012) (Ash Grove Cement and Holcim Cement BART 5-factor analysis).

¹³ Colorado Department of Public Health and Environment, “Colorado Regional Haze SIP”, January 2011; See Reasonable Progress (RP) Four-Factor Analysis of Control Options for Holcim Portland Plant, Florence, Colorado.

¹⁴ Letter dated March 31, 2014 from Jay Grady (CPC) to Thomas Webb (EPA) and Exhibit 1, “Evaluation of EPA's Reasonable Progress Analysis for Kiln 4 at CalPortland Company's Rillito Cement Plant.”

C. Petitions for Reconsideration and Stay

PCC and CPC each submitted a petition to the EPA on November 3, 2014, seeking administrative reconsideration and a partial stay of the 2014 FIP under CAA section 307(d)(7)(B) and the Administrative Procedure Act.¹⁵ In their petitions, both companies raised multiple objections to the control technology demonstration requirements in the 2014 FIP. CPC asserted that the requirements were burdensome, expensive, and unnecessary, given that CPC had already “evaluated fuels, fuel fineness, and the other characteristics listed in the Optimization Protocol” as part of its effort to reduce energy usage.¹⁶ PCC stated that the requirements “would be burdensome to implement” and “would substantially interfere with the cement manufacturing operations” at the Clarkdale Plant.¹⁷ PCC further asserted that requirements would harm the Salt River Pima-Maricopa Indian Community (SRPMIC), which relies on revenue from the Clarkdale Plant.¹⁸

¹⁵ Letter dated November 3, 2014, from Verle C. Martz (PCC) to Regina McCarthy (EPA); letter dated November 3, 2014 from Jay Grady (CPC) to Regina McCarthy (EPA).

¹⁶ Letter November 3, 2014, from Jay Grady (CPC) to Regina McCarthy (EPA) with attachment “Petition of CalPortland Company for Partial Reconsideration and Request for Administrative Stay of EPA Final Rule, Promulgation of Air Quality Implementation Plans; Arizona; Regional Haze and Interstate Visibility Transport Federal Implementation Plan Published at 79 FR 52420” at 4.

¹⁷ Letter dated November 3, 2014, from Verle C. Martz (PCC) to Regina McCarthy (EPA) at 2.

¹⁸ We note that while the Clarkdale Plant is tribally owned, it is not located on tribal land. It is subject to State jurisdiction and is regulated by ADEQ.

The EPA sent letters to PCC and CPC on January 16, 2015 and January 27, 2015, respectively, granting reconsideration of the control technology demonstration project requirements pursuant to CAA section 307(d)(7)(B).¹⁹ Although we did not act on the companies' request for a stay at that time, we subsequently granted a stay of the control technology demonstration project requirements under CAA section 307(d)(7)(B), effective from August 15, 2016 to November 14, 2016.²⁰

¹⁹ Letter dated January 16, 2015, from Jared Blumenfeld (EPA) to Verle C. Martz, PCC; letter dated January 27, 2015, from Jared Blumenfeld (EPA) to Jay Grady (CPC).

²⁰ 81 FR 53929 (Aug. 15, 2016).

III. Proposed Action

On June 30, 2016, the EPA proposed to revise the 2014 FIP based on our reconsideration of the control technology demonstration requirements for the PCC Clarkdale Plant and CPC Rillito Plant.²¹ In particular, we proposed to replace these requirements, applicable to Kiln 4 at the Clarkdale Plant and to Kiln 4 at the Rillito Plant, with a series of revised recordkeeping and reporting conditions. We also proposed to find that these revisions to the 2014 FIP would comply with CAA section 110(l).

²¹ 81 FR 42600 (June 30, 2016).

A. The EPA's Evaluation of Control Technology Demonstration Requirements

1. Rillito Plant Kiln 4

In light of the objections to the control technology demonstration requirements raised by CPC and PCC, we re-evaluated the necessity of these requirements for the Rillito and Clarkdale plants once additional information became available on the performance of SNCR at cement kilns. Although one of the objections to the control technology demonstration requirements raised in the petitions for reconsideration was that EPA lacks authority to impose such a requirement in a regional haze FIP, we disagree with that narrow interpretation of our authority. We note that the EPA's authority in promulgating a regional haze FIP derives not only from the visibility protection provisions of the CAA and our implementing regulations, but also from other provisions of the CAA. CAA section 302(y) defines a FIP, in pertinent part, as a plan (or portion thereof) promulgated by the EPA “to fill all or a portion of a gap or otherwise correct all or a portion of an inadequacy” in a SIP, “and which includes enforceable emission limitations or other control measures, means or techniques (including economic incentives, such as marketable permits or auctions or emissions allowances).” CAA section 302(k), in turn, defines “emission limitation” to include (among other things) “any design, equipment, work practice or operational standard promulgated under [the CAA].” Therefore, the EPA has authority to include design, equipment, work practice and operational standards, such as those included in the control technology demonstration requirements, in a FIP. Furthermore, CAA section 114 provides that in order to develop any SIP or FIP, or to “carry[] out any provision of [the CAA],” the EPA may require owners or operators of emission sources to install monitoring equipment, sample emissions, and “provide such other information as the [EPA] may reasonably require.” Accordingly, the EPA also has authority to require collection and submittal of emission and operating data in the manner set forth in the control technology demonstration requirements. Nonetheless, we are now finalizing our action to remove the control technology demonstration requirements, including the requirement for an optimization protocol, from the 2014 FIP for the reasons set out in our proposal and elsewhere in this document.

The EPA proposed to remove the control technology demonstration requirements for Kiln 4 at the CPC Rillito Plant after we evaluated NOX emission data from a SNCR system operating at a similar kiln at another CPC facility, the Mojave Plant in California, which gave us the information that we were seeking regarding SNCR performance. The data from the Mojave Plant demonstrated that the installed SNCR system could only achieve a control efficiency of 40 percent. In our proposed action to revise the FIP, we specifically noted several site-specific factors indicating that a SNCR system at CPC Rillito Kiln 4 would underperform the SNCR system at the Mojave Plant. Given the relatively low SNCR effectiveness on the Mojave Plant, we proposed to find that a SNCR control efficiency more stringent than the 35 percent required by the 2014 FIP was not achievable at CPC. Therefore, the additional information from the 2014 FIP control technology demonstration project is no longer needed because the CPC SNCR control efficiency in the 2014 FIP is consistent with the SNCR performance at Mojave. Based on our analysis of emissions data and control efficiencies from the Mojave Plant, we proposed to find that it is no longer necessary for CPC to meet the relatively detailed and prescriptive control technology demonstration requirements in the 2014 FIP, including submittal of a SNCR optimization protocol. We therefore proposed to remove the control technology demonstration requirements. As explained in section III.B below, we proposed to replace these requirements with a set of revised recordkeeping and reporting conditions.

2. Clarkdale Plant Kiln 4

In our proposed action to revise the 2014 FIP, we noted that the 50 percent control efficiency for PCC Clarkdale Kiln 4 is already more stringent than the control efficiency demonstrated at the Mojave Plant, and we proposed to find that the 50 percent control efficiency specified in the 2014 FIP for PCC Clarkdale was supported by the available data. Therefore, the additional information from the 2014 FIP control technology demonstration project is no longer needed because the PCC SNCR control efficiency in the 2014 FIP is more stringent than the SNCR performance at Mojave. The EPA proposed to remove the control technology demonstration requirements for Kiln 4 at the PCC Clarkdale Plant and replace them with revised recordkeeping and reporting conditions.

B. Revised Recordkeeping and Reporting Requirements

As described in III.A above, we proposed to find that it is no longer necessary for CPC and PCC to comply with the relatively prescriptive and detailed control technology demonstration requirements established in our 2014 FIP, and we are replacing those provisions with a set of revised recordkeeping and reporting requirements.

C. Non-Interference With Applicable Requirements

The CAA requires that any revision to an implementation plan shall not be approved by the Administrator if the revision would interfere with any applicable requirement concerning attainment and reasonable further progress or any other applicable requirement of the CAA.²² We proposed to find that the revisions to the 2014 FIP would not affect any applicable requirements of the CAA because they would not alter the amount or timing of emission reductions from the Clarkdale Plant or the Rillito Plant. In particular, the replacement of the control technology demonstration requirements with revised recordkeeping and reporting conditions would not alter any of the applicable emission limitations, compliance determination methodologies, or compliance deadlines. Therefore, we proposed to find that these revisions would comply with CAA section 110(l).

²² 42 U.S.C. 7410(l).

IV. Public Comments and EPA Responses

Our proposed action provided a 45-day public comment period. During this period, we received three comments: A comment letter from PCC,²³ a comment letter from CPC,²⁴ and a comment letter from Earthjustice on behalf of National Parks Conservation Association and Sierra Club.²⁵ The significant comments and our responses are set forth below.

²³ Letter dated July 13, 2016, from Verle C. Martz (PCC) to Vijay Limaye (EPA).

²⁴ Letter dated August 15, 2016, from Jay M. Grady (CPC) to Vijay Limaye (EPA).

²⁵ Letter dated August 12, 2016, from Michael Hiatt (Earthjustice) to Vijay Limaye (EPA).

Comment: PCC commented that the EPA's reconsideration rulemaking is necessary for the reasons stated in PCC's petition for reconsideration and in its opening and reply briefs filed with Ninth Circuit in litigation over the Arizona Regional Haze FIP. PCC included each of these documents as attachments to its comments and incorporated them by reference into its comments. PCC also requested that the rulemaking be finalized as soon as possible.

Response: We acknowledge PCC's support for our action on reconsideration. However, PCC's references to and incorporation of the documents it has filed in litigation concerning the Arizona Regional Haze FIP go far beyond the narrow scope of the revisions to the 2014 FIP that we are considering in this action. For example, PCC's arguments regarding the adequacy of notice and the EPA's reasoning concerning the inclusion of the optimization provisions in the FIP are not relevant to this action because the EPA has already completed its proceeding for reconsideration of these provisions under CAA section 307(d)(7)(B) (i.e., this rulemaking action).

Comment: CPC expressed support for this reconsideration action to replace control technology demonstration requirements at CPC with a series of revised recordkeeping and reporting requirements.

Response: We acknowledge CPC's support for our action on reconsideration.

Comment: Earthjustice submitted comments on behalf of the National Parks Conservation Association and Sierra Club (collectively referred to as Earthjustice). The comment letter asserts that the EPA should require PCC and CPC to install Selective Catalytic Reduction (SCR) rather than SNCR technology as reasonable progress controls in our final action. Earthjustice states that the EPA rejected SCR in our initial action in the 2014 FIP because SCR was not being used in the United States to control cement manufacturing facilities. The comment letter indicates that two cement manufacturing facilities in the United States have installed SCR technology since our 2014 FIP. Noting that the EPA proposed reconsideration of the control technology demonstration requirements based on data from the CPC Mojave Plant in California, Earthjustice states:

If EPA is going to revise the existing FIP's requirements based on recent data from a cement plant in California, it should also examine the recent success of SCR controls at the cement plants in Illinois and Texas. Reconsidering the FIP's requirements based on recent data from other plants should not be a one-way ratchet toward weakening the FIP's requirements. Instead, in order to make a reasonable and fully-informed decision on reconsideration, EPA should also re-examine whether more stringent SCR controls are warranted. [Footnote omitted] ²⁶

²⁶ Ibid.

The comment letter concludes: “Given this recent information documenting the success of SCR at cement plants, EPA should reconsider whether SCR at the Rillito and Clarkdale plants is necessary to ensure reasonable progress.” ²⁷

²⁷ Ibid.

Response: Our proposed revision to the FIP in this action is very limited in scope. The proposed FIP revision followed petitions for reconsideration filed by PCC and CPC in November 2014. The EPA granted reconsideration in January 2015, at which time we stated that the scope of our reconsideration of the 2014 FIP was narrowly limited to the control technology demonstration requirements for SNCR at the Clarkdale and Rillito facilities. When we proposed to revise the FIP, we proposed only “to replace the control technology optimization requirements at the PCC Clarkdale Plant and CPC Rillito Plant with a series of recordkeeping and reporting requirements.” 81 FR 42600, 42603 (June 30, 2016).

Contrary to Earthjustice's contention, our evaluation of the data from the Mojave Plant does not justify re-examining all other cement manufacturing facilities in the United States to establish whether a NOX emission limit achievable through installation of SNCR or SCR should be required for reasonable progress at PCC or CPC. The scope of our revision to the 2014 FIP was limited to evaluating the need for the control technology demonstration requirements to ensure that the NOX emission limits at the Clarkdale and Rillito facilities are appropriate and to ensure that the performance of the SNCR systems at these facilities is optimized. As explained in our proposal, the data from the Mojave Plant demonstrated that SNCR could only achieve a control efficiency of 40 percent. The analysis of data from the Mojave Plant indicated that more stringent SNCR control efficiencies were not achievable at PCC and CPC. Therefore, the additional information from the 2014 FIP control technology demonstration projects is no longer needed because the PCC and CPC SNCR control efficiencies are consistent with the SNCR performance at Mojave. As a result, we no longer consider the SNCR control technology demonstration provisions in the 2014 FIP to be necessary. Therefore, we disagree with Earthjustice that we should consider SCR technology in the context of the FIP revision at issue in this action.

Comment: Earthjustice also commented that the NOX emission data from the Mojave plant's SNCR demonstration period does not warrant elimination of the control technology optimization project requirements for CPC and PCC. Specifically, Earthjustice asserts that because optimization of the SNCR system is a site-specific inquiry, the fact that the Mojave plant's optimization did not result in significant improvement does not mean that SNCR optimization at CPC and PCC would be similarly unsuccessful. As a result, the control technology optimization project requirements should remain in place.

Response: We disagree with the commenter's assertion. We acknowledge that control technology determinations for cement kilns are site specific in nature; however, while a site-specific analysis involves consideration of special circumstances and characteristics pertinent to the source under review, it does not require excluding information from other, similar facilities, and information from these facilities can be highly relevant. For many control technologies with a wide range of performance levels, it is important to take into account their performance at other, similar sources.

In our proposed action to revise the FIP, we specifically noted several site-specific factors indicating that a SNCR system at CPC Rillito Kiln 4 would underperform the SNCR system at the kiln at the Mojave Plant. Given the relatively low SNCR effectiveness on the Mojave Plant, we noted in our proposed action that the final NOX limit for CPC Rillito Kiln 4 was adequately supported by the available data. Aside from a general assertion about the site-specific nature of SNCR optimization, the commenter has not provided any additional information suggesting that retaining the control technology demonstration requirements for Rillito Kiln 4 would result in a more stringent NOX limit, or that a comparison to the Mojave Plant is inappropriate.

Similarly, in our proposed action to revise the 2014 FIP, we noted that the final NOX limit for PCC Clarkdale Kiln 4 is already more stringent than the NOX limit demonstrated at the Mojave Plant, both in terms of emission limit and control effectiveness. Given that a more stringent limit was not demonstrated at the Mojave Plant, we find that the 50 percent control efficiency specified in the 2014 FIP for PCC Clarkdale is still supported, and we do not consider that the information from the control technology demonstration project will support re-evaluating the final NOX limit for PCC Clarkdale Kiln 4. Aside from a general assertion about the site specific nature of SNCR optimization, the commenter has not provided any additional information or detail indicating that information from the control technology demonstration requirements will support re-evaluation of the NOX limit that is achievable, or that a comparison to the Mojave Plant is inappropriate.

Comment: Earthjustice also states that our proposed revision of the 2014 FIP is a “one-way ratchet toward weakening the FIP requirements,” that we are replacing “existing `control optimization' requirements for the two Arizona plants with less stringent recordkeeping and reporting requirements” and that we should not eliminate the control optimization provisions. The comment letter states:

In the current rulemaking, EPA proposes to relax the existing FIP requirements for the Rillito and Clarkdale cement plants because of recent information regarding SNCR performance on other cements kilns in the United States. 81 FR at 42602-03. Specifically, EPA has reviewed recent SNCR performance data from the Mojave cement plant in California. EPA believes this recent SNCR data from California justifies replacing the existing “control optimization” requirements for the two Arizona plants with less stringent recordkeeping and reporting requirements.²⁸

²⁸ Ibid.

Response: We do not agree that today's rule will “relax” the relevant requirements of the 2014 FIP. When we finalized the 2014 FIP, we acknowledged that data being collected at the Mojave Plant could potentially support more stringent NOX emission limits at the Rillito and Clarkdale facilities. However, data obtained from the Mojave Plant in early 2015 did not support any re-evaluation of the NOX emission limits in the 2014 FIP at the Rillito and Clarkdale facilities. Accordingly, we proposed and are now finalizing the removal of the control technology demonstration requirements in the 2014 FIP. This action does not weaken or relax the NOX emission limits in the 2014 FIP or the requirement to achieve the specified control efficiency when SNCR controls are used. This FIP revision merely removes a process that EPA has determined is no longer necessary. There will not be any additional NOX emissions from these facilities and the 2014 FIP requirements remain fully enforceable.

V. Final Action

The EPA is taking final action to revise portions of the Arizona Regional Haze FIP to replace the control technology demonstration requirements at the PCC Clarkdale Plant and the CPC Rillito Plant with a series of recordkeeping and reporting requirements. The revisions to the reporting and recordkeeping conditions we are finalizing in this action, exactly as we proposed them, require documenting and submitting certain design and optimization activities that are part of a typical SNCR system installation. These revisions are detailed in the regulatory text at 40 CFR 52.145(k).

We are also making a minor technical correction to the regulatory text for this action by correcting the equation provided in 40 CFR 52.145(k)(7)(ii)(B)(1) to make the equation consistent with the text in that section.

We find that today's revision will not interfere with any applicable requirement concerning attainment, reasonable further progress, or any other applicable requirement of the CAA, because the FIP revision will not alter the amount or timing of emission reductions from the Clarkdale Plant or the Rillito Plant.

Finally, the EPA granted a 90-day administrative stay on August 15, 2016 that expires on November 14, 2016.²⁹ In this action, we are deleting the regulatory text in 40 CFR 52.145(n) establishing the administrative stay. We are deleting the regulatory provision because the stay will no longer be in effect after the effective date of our final action on the FIP revision.

²⁹ 40 CFR 52.145(n); 81 FR 53929 (Aug. 15, 2016).

VI. Environmental Justice Considerations

The EPA believes that this action does not have disproportionately high and adverse human health or environmental effects on minority populations, low-income populations, and/or indigenous peoples, as specified in Executive Order 12898 (59 FR 7629, February 16, 1994). Today's revisions to portions of the Arizona Regional Haze FIP will not alter the amount or timing of emission reductions from the Clarkdale Plant or the Rillito Plant.

VII. Statutory and Executive Order Reviews

Additional information about these statutes and Executive Orders can be found at http://www2.epa.gov/laws-regulations/laws-and-executive-orders.

A. Executive Order 12866: Regulatory Planning and Review and Executive Order 13563: Improving Regulation and Regulatory Review

This action is exempt from review by the Office of Management and Budget (OMB) because it applies to only two facilities and is therefore not a rule of general applicability.

B. Paperwork Reduction Act (PRA)

This action does not impose an information collection burden under the PRA. This rule applies to only two facilities. Therefore, its recordkeeping and reporting provisions do not constitute a “collection of information” as defined under 44 U.S.C. 3502(3) and 5 CFR 1320.3(c).

C. Regulatory Flexibility Act (RFA)

I certify that this action will not have a significant economic impact on a substantial number of small entities under the RFA. This action will not impose any requirements on small entities. For purposes of assessing the impacts of today's rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field. Pursuant to 13 CFR 121.201, footnote 1, a firm is small if it is in NAICS 327310 (cement manufacturing) and the concern and its affiliates have no more than 750 employees. CPC is owned by Taiheiyo Cement Corporation, which has more than 750 employees.³⁰ PCC is a division of SRPMIC.³¹ For the purposes of the RFA, tribal governments are not considered small governments. 5 U.S.C. 601(5). Therefore, SRPMIC is not a small entity.

³⁰ See Taiheiyo Cement Corporation Annual Report 2015 at 1 and 36.

³¹ Letter dated December 20, 2012, from Diane Enos (SRPMIC) to Jared Blumenfield (EPA).

D. Unfunded Mandates Reform Act (UMRA)

This action does not contain an unfunded mandate of $100 million or more as described in UMRA, 2 U.S.C. 1531-1538. This action may significantly or uniquely affect small governments. As a tribal government, SRPMIC is considered a “small government” under UMRA. See 2 U.S.C. 658(11) and (13). The EPA consulted with SRPMIC concerning the regulatory requirements that might significantly or uniquely affect it.³²

³² Memorandum dated June 15, 2016, from Charlotte Withey (EPA) to Rulemaking Docket EPA-R09-OAR-2015-0846, Subject: “Summary of Consultation with SRPMIC Regarding Regional Haze FIP Reconsideration.”

E. Executive Order 13132: Federalism

This action does not have federalism implications. It will not have substantial direct effects on the states, on the relationship between the national government and the states, or on the distribution of power and responsibilities among the various levels of government.

F. Executive Order 13175: Consultation and Coordination With Indian Tribal Governments

This action has tribal implications. However, it will neither impose substantial direct compliance costs on federally recognized tribal governments, nor preempt tribal law. This action eliminates the SNCR optimization requirements that currently apply to the PCC Clarkdale Plant. The profits from the Clarkdale Plant are used to provide government services to SRPMIC's members.

The EPA consulted with tribal officials under the EPA Policy on Consultation and Coordination with Indian Tribes early in the process of developing this regulation to permit them to have meaningful and timely input into its development.³³

³³ Id.

G. Executive Order 13045: Protection of Children From Environmental Health Risks and Safety Risks

The EPA interprets Executive Order 13045 as applying only to those regulatory actions that concern health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution or Use

This action is not subject to Executive Order 13211 because it is not a significant regulatory action under Executive Order 12866.

I. National Technology Transfer and Advancement Act

This rulemaking does not involve technical standards. The EPA is not revising any technical standards or imposing any new technical standards in this action.

J. Executive Order 12898: Federal Actions To Address Environmental Justice in Minority Populations and Low-Income Populations

The EPA believes that this action does not have disproportionately high and adverse human health or environmental effects on minority populations, low-income populations and/or indigenous peoples, as specified in Executive Order 12898 (59 FR 7629, February 16, 1994). The documentation for this decision is contained in section VI above.

K. Determination Under Section 307(d)

Pursuant to CAA section 307(d)(1)(B), this action is subject to the requirements of CAA section 307(d), as it revises a FIP under CAA section 110(c).

L. Congressional Review Act (CRA)

This rule is exempt from the CRA because it is a rule of particular applicability.

M. Petitions for Judicial Review

Under section 307(b)(1) of the Clean Air Act, petitions for judicial review of this action must be filed in the United States Court of Appeals for the appropriate circuit by January 20, 2017. Filing a petition for reconsideration by the Administrator of this final rule does not affect the finality of this rule for the purposes of judicial review nor does it extend the time within which a petition for judicial review may be filed, and shall not postpone the effectiveness of such rule or action. This action may not be challenged later in proceedings to enforce its requirements. See CAA section 307(b)(2).

List of Subjects in 40 CFR Part 52

Environmental protection, Air pollution control, Incorporation by reference, Nitrogen oxides, Reporting and recordkeeping requirements, Visibility.

Authority: 42 U.S.C. 7401 et seq.

Dated: November 4, 2016.
Gina McCarthy,
Administrator.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart D—Arizona

2. Amend § 52.145 by:

a. Revising paragraph (k); and

b . Removing “Appendix A to § 52.145—Cement Kiln Control Technology Demonstration Requirements”.

The revision reads as follows:

§ 52.145 Visibility protection.

* * * * *

(k) Source-specific federal implementation plan for regional haze at Clarkdale Cement Plant and Rillito Cement Plant—(1) Applicability. This paragraph (k) applies to each owner/operator of the following cement kilns in the state of Arizona: Kiln 4 located at the cement plant in Clarkdale, Arizona, and kiln 4 located at the cement plant in Rillito, Arizona.

(2) Definitions. Terms not defined in this paragraph (k)(2) shall have the meaning given them in the Clean Air Act or EPA's regulations implementing the Clean Air Act. For purposes of this paragraph (k):

Ammonia injection shall include any of the following: Anhydrous ammonia, aqueous ammonia or urea injection.

Continuous emission monitoring system or CEMS means the equipment required by this section to sample, analyze, measure, and provide, by means of readings recorded at least once every 15 minutes (using an automated data acquisition and handling system), a permanent record of NOX emissions, diluent, or stack gas volumetric flow rate.

Kiln operating day means a 24-hour period between 12 midnight and the following midnight during which the kiln operates at any time.

Kiln operation means any period when any raw materials are fed into the kiln or any period when any combustion is occurring or fuel is being fired in the kiln.

NOX means nitrogen oxides.

Owner/operator means any person who owns or who operates, controls, or supervises a cement kiln identified in paragraph (k)(1) of this section.

Unit means a cement kiln identified in paragraph (k)(1) of this section.

(3) Emissions limitations. (i) The owner/operator of kiln 4 of the Clarkdale Plant, as identified in paragraph (k)(1) of this section, shall not emit or cause to be emitted from kiln 4 NOX in excess of 2.12 pounds of NOX per ton of clinker produced, based on a rolling 30-kiln operating day basis.

(ii) The owner/operator of kiln 4 of the Rillito Plant, as identified in paragraph (k)(1) of this section, shall not emit or cause to be emitted from kiln 4 NOX in excess of 3.46 pounds of NOX per ton of clinker produced, based on a rolling 30-kiln operating day basis.

(4) Alternative emissions limitation. In lieu of the emission limitation listed in paragraph (k)(3)(i) of this section, the owner/operator of kiln 4 of the Clarkdale Plant may choose to comply with the following limitation by providing notification per paragraph (k)(13)(iv) of this section. The owner/operator of kiln 4 of the Clarkdale Plant, as identified in paragraph (k)(1) of this section, shall not emit or cause to be emitted from kiln 4 NOX in excess of 810 tons per year, based on a rolling 12-month basis.

(5) Compliance date. (i) The owner/operator of each unit identified in paragraph (k)(1) of this section shall comply with the NOX emissions limitations and other NOX-related requirements of this paragraph (k)(3) of this section no later than December 31, 2018.

(ii) If the owner/operator of the Clarkdale Plant chooses to comply with the emission limit of paragraph (k)(4) of this section in lieu of paragraph (k)(3)(i) of this section, the owner/operator shall comply with the NOX emissions limitations and other NOX-related requirements of paragraph (k)(4) of this section no later than December 31, 2018.

(6) [Reserved]

(7) Compliance determination—

(i) Continuous emission monitoring system. (A) At all times after the compliance date specified in paragraph (k)(5) of this section, the owner/operator of the unit at the Clarkdale Plant shall maintain, calibrate, and operate a CEMS, in full compliance with the requirements found at 40 CFR 60.63(f) and (g), to accurately measure concentration by volume of NOX, diluent, and stack gas volumetric flow rate from the in-line/raw mill stack, as well as the stack gas volumetric flow rate from the coal mill stack. The CEMS shall be used by the owner/operator to determine compliance with the emission limitation in paragraph (k)(3) of this section, in combination with data on actual clinker production. The owner/operator must operate the monitoring system and collect data at all required intervals at all times the affected unit is operating, except for periods of monitoring system malfunctions, repairs associated with monitoring system malfunctions, and required monitoring system quality assurance or quality control activities (including, as applicable, calibration checks and required zero and span adjustments).

(B) At all times after the compliance date specified in paragraph (k)(5) of this section, the owner/operator of the unit at the Rillito Plant shall maintain, calibrate, and operate a CEMS, in full compliance with the requirements found at 40 CFR 60.63(f) and (g), to accurately measure concentration by volume of NOX, diluent, and stack gas volumetric flow rate from the unit. The CEMS shall be used by the owner/operator to determine compliance with the emission limitation in paragraph (k)(3) of this section, in combination with data on actual clinker production. The owner/operator must operate the monitoring system and collect data at all required intervals at all times the affected unit is operating, except for periods of monitoring system malfunctions, repairs associated with monitoring system malfunctions, and required monitoring system quality assurance or quality control activities (including, as applicable, calibration checks and required zero and span adjustments).

(ii) Methods. (A) The owner/operator of each unit shall record the daily clinker production rates.

(B)(1) The owner/operator of each unit shall calculate and record the 30-kiln operating day average emission rate of NOX, in pounds per ton (lb/ton) of clinker produced, as the total of all hourly emissions data for the cement kiln in the preceding 30-kiln operating days, divided by the total tons of clinker produced in that kiln during the same 30-day operating period, using the following equation:

Where:

E[D] = 30 kiln operating day average emission rate of NOX, lb/ton of clinker;

C[i] = Concentration of NOX for hour i as recorded by the CEMS required by paragraph (k)(7)(i) of this section, ppm;

Q[i] = volumetric flow rate of effluent gas for hour i as recorded by the CEMS required by paragraph (k)(7)(i) of this section, where C[i] and Q[i] are on the same basis (either wet or dry), scf/hr;

P[i] = total kiln clinker produced during production hour i, ton/hr;

k = conversion factor, 1.194 × 10−⁷ for NOX; and

n = number of kiln operating hours over 30 kiln operating days, n = 1 up to 720.

(2) For each kiln operating hour for which the owner/operator does not have at least one valid 15-minute CEMS data value, the owner/operator must use the average emissions rate in pounds per ton (lb/hr) from the most recent previous hour for which valid data are available. Hourly clinker production shall be determined by the owner/operator in accordance with the requirements found at 40 CFR 60.63(b).

(C) At the end of each kiln operating day, the owner/operator shall calculate and record a new 30-day rolling average emission rate in lb/ton clinker from the arithmetic average of all valid hourly emission rates for the current kiln operating day and the previous 29 successive kiln operating days.

(D) Upon and after the completion of installation of ammonia injection on a unit, the owner/operator shall install, and thereafter maintain and operate, instrumentation to continuously monitor and record levels of ammonia injection for that unit.

(8) Alternative compliance determination. If the owner/operator of the Clarkdale Plant chooses to comply with the emission limits of paragraph (k)(4) of this section, this paragraph may be used in lieu of paragraph (k)(7) of this section to demonstrate compliance with the emission limits in paragraph (k)(4) of this section.

(i) Continuous emission monitoring system. At all times after the compliance date specified in paragraph (k)(5) of this section, the owner/operator of the unit at the Clarkdale Plant shall maintain, calibrate, and operate a CEMS, in full compliance with the requirements found at 40 CFR 60.63(f) and (g), to accurately measure concentration by volume of NOX, diluent, and stack gas volumetric flow rate from the in-line/raw mill stack, as well as the stack gas volumetric flow rate from the coal mill stack. The CEMS shall be used by the owner/operator to determine compliance with the emission limitation in paragraph (k)(4) of this section. The owner/operator must operate the monitoring system and collect data at all required intervals at all times the affected unit is operating, except for periods of monitoring system malfunctions, repairs associated with monitoring system malfunctions, and required monitoring system quality assurance or quality control activities (including, as applicable, calibration checks and required zero and span adjustments).

(ii) Method. Compliance with the ton per year NOX emission limit described in paragraph (k)(4) of this section shall be determined based on a rolling 12-month basis. The rolling 12-month NOX emission rate for the kiln shall be calculated within 30 days following the end of each calendar month in accordance with the following procedure: Step one, sum the hourly pounds of NOX emitted for the month just completed and the eleven (11) months preceding the month just completed, to calculate the total pounds of NOX emitted over the most recent twelve (12) month period for that kiln; Step two, divide the total pounds of NOX calculated from Step one by two thousand (2,000) to calculate the total tons of NOX. Each rolling 12-month NOX emission rate shall include all emissions that occur during all periods within the 12-month period, including emissions from startup, shutdown and malfunction.

(iii) Upon and after the completion of installation of ammonia injection on the unit, the owner/operator shall install, and thereafter maintain and operate, instrumentation to continuously monitor and record levels of ammonia injection for that unit.

(9) Recordkeeping. The owner/operator of each unit shall maintain the following records for at least five years:

(i) All CEMS data, including the date, place, and time of sampling or measurement; emissions and parameters sampled or measured; and results.

(ii) All records of clinker production.

(iii) Daily 30-day rolling emission rates of NOX, calculated in accordance with paragraph (k)(7)(ii) of this section.

(iv) Records of quality assurance and quality control activities for emissions measuring systems including, but not limited to, any records specified by 40 CFR part 60, Appendix F, Procedure 1.

(v) Records of ammonia injection, as recorded by the instrumentation required in paragraph (k)(7)(ii)(D) of this section.

(vi) Records of all major maintenance activities conducted on emission units, air pollution control equipment, CEMS and clinker production measurement devices.

(vii) Any other records specified by 40 CFR part 60, subpart F, or 40 CFR part 60, Appendix F, Procedure 1.

(10) Alternative recordkeeping requirements. If the owner/operator of the Clarkdale Plant chooses to comply with the emission limits of paragraph (k)(4) of this section, the owner/operator shall maintain the records listed in this paragraph in lieu of the records contained in paragraph (k)(9) of this section. The owner or operator shall maintain the following records for at least five years:

(i) All CEMS data, including the date, place, and time of sampling or measurement; emissions and parameters sampled or measured; and results.

(ii) Monthly rolling 12-month emission rates of NOX, calculated in accordance with paragraph (k)(8)(ii) of this section.

(iii) Records of quality assurance and quality control activities for emissions measuring systems including, but not limited to, any records specified by 40 CFR part 60, Appendix F, Procedure 1.

(iv) Records of ammonia injection, as recorded by the instrumentation required in paragraph (k)(8)(iii) of this section.

(v) Records of all major maintenance activities conducted on emission units, air pollution control equipment, and CEMS measurement devices.

(vi) Any other records specified by 40 CFR part 60, subpart F, or 40 CFR part 60, Appendix F, Procedure 1.

(11) Reporting. All reports and notifications required under this paragraph (k) shall be submitted by the owner/operator to U.S. Environmental Protection Agency, Region 9, Enforcement Division via electronic mail to aeo_r9@epa.gov and to Air Division via electronic mail to R9AirPermits@epa.gov. Reports required under this paragraph (k)(11)(iii) through (k)(11)(vii) of this section shall be submitted within 30 days after the applicable compliance date in paragraph (k)(5) of this section and at least semiannually thereafter, within 30 days after the end of a semiannual period. The owner/operator may submit reports more frequently than semiannually for the purposes of synchronizing reports required under this section with other reporting requirements, such as the title V monitoring report required by 40 CFR 70.6(a)(3)(iii)(A), but at no point shall the duration of a semiannual period exceed six months.

(i) Prior to commencing construction of the ammonia injection system, the owner/operator shall submit to the EPA a report describing the design of the SNCR system. This report shall include: reagent type, description of the locations selected for reagent injection, reagent injection rate (expressed as a molar ratio of reagent to exhaust gas), equipment list, equipment arrangement, and a summary of kiln characteristics that were relied upon as the design basis for the SNCR system.

(ii) Within 30 days following the NOX compliance date in paragraph (k)(5)(i) of this section, the owner/operator shall submit to the EPA a report of any process improvement or debugging activities that were performed on the SNCR system. This report shall include: a description of each process adjustment performed on the SNCR system or the kiln, a discussion of whether the adjustment affected NOX emission rates, a description of the range (if applicable) over which the adjustment was examined, and a discussion of how the adjustment will be reflected or accounted for in kiln operating practices. If CEMS data or kiln operating data were recorded during process improvement or debugging activities, the owner/operator shall submit the recorded CEMS and kiln operating data with the report. The data shall be submitted in an electronic format consistent with and able to be manipulated by a spreadsheet program such as Microsoft Excel.

(iii) The owner/operator shall submit a report that lists the daily 30-day rolling emission rates for NOX.

(iv) The owner/operator shall submit excess emissions reports for NOX limits. Excess emissions means emissions that exceed the emissions limits specified in paragraph (k)(3) of this section. The reports shall include the magnitude, date(s), and duration of each period of excess emissions, specific identification of each period of excess emissions that occurs during startups, shutdowns, and malfunctions of the unit, the nature and cause of any malfunction (if known), and the corrective action taken or preventative measures adopted.

(v) The owner/operator shall submit CEMS performance reports, to include dates and duration of each period during which the CEMS was inoperative (except for zero and span adjustments and calibration checks), reason(s) why the CEMS was inoperative and steps taken to prevent recurrence, and any CEMS repairs or adjustments.

(vi) The owner/operator shall also submit results of any CEMS performance tests specified by 40 CFR part 60, Appendix F, Procedure 1 (Relative Accuracy Test Audits, Relative Accuracy Audits, and Cylinder Gas Audits).

(vii) When no excess emissions have occurred or the CEMS has not been inoperative, repaired, or adjusted during the reporting period, the owner/operator shall state such information in the reports required by paragraph (k)(9)(ii) of this section.

(12) Alternative reporting requirements. If the owner/operator of the Clarkdale Plant chooses to comply with the emission limits of paragraph (k)(4) of this section, the owner/operator shall submit the reports listed in this paragraph in lieu of the reports contained in paragraph (k)(11) of this section. All reports required under this paragraph (k)(12) shall be submitted within 30 days after the applicable compliance date in paragraph (k)(5) of this section and at least semiannually thereafter, within 30 days after the end of a semiannual period. The owner/operator may submit reports more frequently than semiannually for the purposes of synchronizing reports required under this section with other reporting requirements, such as the title V monitoring report required by 40 CFR 70.6(a)(3)(iii)(A), but at no point shall the duration of a semiannual period exceed six months.

(i) The owner/operator shall submit a report that lists the monthly rolling 12-month emission rates for NOX.

(ii) The owner/operator shall submit excess emissions reports for NOX limits. Excess emissions means emissions that exceed the emissions limits specified in paragraph (k)(3) of this section. The reports shall include the magnitude, date(s), and duration of each period of excess emissions, specific identification of each period of excess emissions that occurs during startups, shutdowns, and malfunctions of the unit, the nature and cause of any malfunction (if known), and the corrective action taken or preventative measures adopted.

(iii) The owner/operator shall submit CEMS performance reports, to include dates and duration of each period during which the CEMS was inoperative (except for zero and span adjustments and calibration checks), reason(s) why the CEMS was inoperative and steps taken to prevent recurrence, and any CEMS repairs or adjustments.

(iv) The owner/operator shall also submit results of any CEMS performance tests specified by 40 CFR part 60, Appendix F, Procedure 1 (Relative Accuracy Test Audits, Relative Accuracy Audits, and Cylinder Gas Audits).

(v) When no excess emissions have occurred or the CEMS has not been inoperative, repaired, or adjusted during the reporting period, the owner/operator shall state such information in the reports required by paragraph (k)(9)(ii) of this section.

(13) Notifications. (i) The owner/operator shall submit notification of commencement of construction of any equipment which is being constructed to comply with the NOX emission limits in paragraph (k)(3) of this section.

(ii) The owner/operator shall submit semiannual progress reports on construction of any such equipment.

(iii) The owner/operator shall submit notification of initial startup of any such equipment.

(iv) By June 30, 2018, the owner/operator of the Clarkdale Plant shall notify EPA Region 9 by letter whether it will comply with the emission limits in paragraph (k)(3)(i) of this section or whether it will comply with the emission limits in paragraph (k)(4) of this section. In the event that the owner/operator does not submit timely and proper notification by June 30, 2018, the owner/operator of the Clarkdale Plant may not choose to comply with the alternative emission limits in paragraph (k)(4) of this section and shall comply with the emission limits in paragraph (k)(3)(i) of this section.

(14) Equipment operation. (i) At all times, including periods of startup, shutdown, and malfunction, the owner or operator shall, to the extent practicable, maintain and operate the unit including associated air pollution control equipment in a manner consistent with good air pollution control practices for minimizing emissions. Pollution control equipment shall be designed and capable of operating properly to minimize emissions during all expected operating conditions. Determination of whether acceptable operating and maintenance procedures are being used will be based on information available to the Regional Administrator which may include, but is not limited to, monitoring results, review of operating and maintenance procedures, and inspection of the unit.

(ii) After completion of installation of ammonia injection on a unit, the owner or operator shall inject sufficient ammonia to achieve compliance with NOX emission limits set forth in paragraph (k)(3) of this section for that unit while preventing excessive ammonia emissions.

(15) Enforcement. Notwithstanding any other provision in this implementation plan, any credible evidence or information relevant as to whether the unit would have been in compliance with applicable requirements if the appropriate performance or compliance test had been performed, can be used to establish whether or not the owner or operator has violated or is in violation of any standard or applicable emission limit in the plan.

[FR Doc. 2016-27422 Filed 11-18-16; 8:45 am]

BILLING CODE 6560-50-P